DEPARTMENT OF COMMERCE

National Oceanic and Atmospheric Administration

RIN 0648-XB172

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Habitat and Environmental Protection (Habitat) Advisory Panel (AP) to provide input on measures in Comprehensive Ecosystem-Based Amendment 3 and other habitat related topics. See SUPPLEMENTARY INFORMATION.

DATES: The Habitat AP meeting will be held May 15, 2012, from 2 p.m. until 4 p.m.

ADDRESSES: The meeting will be held via webinar. The webinar is open to members of the public. Persons interested in participating in the webinar should contact Mike Collins via email at mike.collins@safmc.net or by calling the Council office at (843) 571-4366 or toll free (866) SAFMC-10. Information will also be available from the Council's Web site at www.safmc.net.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: Members of the Habitat AP will meet via webinar from 2 p.m. until 4 p.m. on May 15, 2012. The AP will review management measures currently in the draft Comprehensive Ecosystem-Based Management Amendment 3 (CE-BA 3). Measures under consideration include, but are not limited to, extension of existing deepwater Coral Habitat Areas of Particular Concern, and measures to reduce bycatch mortality on speckled hind and Warsaw grouper through the creation or expansion of marine protected areas. The AP will provide recommendations on measures for inclusion into a public hearing draft for CE-BA3 and discuss other habitat issues as needed.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 3 days prior to the meeting.

Note: The times and sequence specified in this agenda are subject to change.

Dated: April 24, 2012.
Tracey L. Thompson,
Acting Director, Office of Sustainable Fisheries, National Marine Fisheries Service.

[FR Doc. 2012-10151 Filed 4-26-12; 8:45 am]

BILLING CODE 3510-22-P